DEPARTMENT OF COMMERCE

International Trade Administration

[A-201-822]

Stainless Steel Sheet and Strip in Coils From Mexico; Notice of Amended Final Results of Antidumping Duty Administrative Review

AGENCY: Import Administration, International Trade Administration, Department of Commerce.

DATES: Effective Date: February 18, 2011.

FOR FURTHER INFORMATION CONTACT: Patrick Edwards, Brian Davis, or Angelica Mendoza, AD/CVD Operations, Office 7, Import Administration, International Trade Administration, U.S. Department of Commerce, 14th Street and Constitution Avenue, NW., Washington, DC 20230; telephone: (202) 482-8029, (202) 482-7924, and (202) 482-3019, respectively.

SUPPLEMENTARY INFORMATION:

Amendment to the Final Results

In accordance with sections 751(a) and 777(i)(1) of the Tariff Act of 1930, as amended, (the Act), on January 5, 2011, the Department issued its final results in the administrative review of the antidumping duty order on stainless steel sheet and strip in coils (S4 in coils) from Mexico, covering the period July 1, 2008, to June 30, 2009. The final results were subsequently released to all parties in the proceeding, and published in the Federal Register on January 13, 2011. See Stainless Steel Sheet and Strip in Coils from Mexico; Final Results of Antidumping Duty Administrative Review, 76 FR 2332 (January 13, 2011) (S4 from Mexico 2008-2009 Final Results). On January 14, 2011, and pursuant to 19 CFR 351.224(c)(2), we received a timely-filed allegation from the respondent in this administrative review, ThyssenKrupp Mexinox S.A. de C.V. (Mexinox SA) and Mexinox USA, Inc. (Mexinox USA) (collectively referred to as Mexinox), that the Department made ministerial errors with respect to several aspects of Mexinox's margin calculation. See Letter from Mexinox to the Department of Commerce, titled “Ministerial Error Comments,” dated January 14, 2011 (Mexinox Ministerial Letter). On January 20, 2011, we received comments from Allegheny Ludlum Corporation, AK Steel Corporation, and North American Stainless (collectively referred to as petitioners) regarding the ministerial errors alleged by Mexinox. See Letter from petitioners to the Department of Commerce, regarding “Response to Mexinox's Ministerial Error Allegations,” dated January 20, 2011 (Petitioners' Response Letter). For a discussion of the Department's analysis of the allegations in the Mexinox Ministerial Letter and rebuttal comments in the Petitioners' Response Letter, see Memorandum from Patrick Edwards and Brian Davis, Case Analysts, through Angelica Mendoza, Program Manager, to Richard Weible, Office Director, entitled, “Ministerial Errors Allegation in the Final Results of the Antidumping Duty Administrative Review of Stainless Steel Sheet and Strip in Coils from Mexico: ThyssenKrupp Mexinox S.A. de C.V.,” dated February 14, 2011 (Ministerial Error Allegation Memo).

A ministerial error, as defined at section 751(h) of the Act, includes “errors in addition, subtraction, or other arithmetic function, clerical errors resulting from inaccurate copying, duplication, or the like, and any other type of unintentional error which {the Department} considers ministerial.” See also 19 CFR 351.224(f). In its Ministerial Letter, Mexinox alleges that the Department made five ministerial errors in calculating Mexinox's antidumping duty margin. First, Mexinox alleges that the Department made a ministerial error by incorrectly placing a parenthesis in its calculation of cost of goods sold to derive constructed export price profit, effectively failing to extend the per-unit cost of production and per-unit packing expenses by the quantity sold. See Mexinox Ministerial Letter at 2. Second, Mexinox alleges that the Department incorrectly derived quarterly cost data by assigning a production quantity to those products which were sold, but not produced in certain quarters, thus overstating Mexinox's production quantities and miscalculating the indexed quarterly costs. Id. at 3. Third, Mexinox alleges several errors with regard to the Department's calculation of its U.S. indirect selling expenses. Specifically, Mexinox contends that the Department a) failed to include “other income/expenses” specific to Mexinox USA, b) double-counted certain service fee expenses incurred by Mexinox's affiliates in the United States, and c) applied the wrong raw material service fee in its calculation of Mexinox's total indirect selling expenses. Id. at 6. Fourth, Mexinox contends that the Department incorrectly accounted for employee profit sharing in its calculation of Mexinox's general and administrative (G&A) ratio. Id. at 9. Fifth, and finally, Mexinox alleges that the Department's margin calculation programs caused certain variables to be overwritten when comparison market sales were merged with Mexinox's reported costs. Id. at 10.

In their rebuttal letter, petitioners commented on only two of Mexinox's alleged errors. First, petitioners argue that Mexinox's allegation with regard to the inclusion of “other income/expenses” specific to Mexinox USA is methodological in nature and, therefore, does not constitute a ministerial error. See Petitioners' Response Letter at 2-3. Petitioners further argue that the Department did use the correct raw material services fee in its calculation of Mexinox's U.S. indirect selling expenses and, therefore, Mexinox's alleged error is incorrect. Id. at 4. Second, petitioners allege that, should the Department agree with Mexinox's allegation that the Department inadvertently overstated production quantities and consequently calculated incorrect quarterly cost indices, Mexinox's suggested programming changes would cause several errors in the Department's margin calculation programs and would continue to calculate incorrect quarterly cost indices. Id. at 6.

After analyzing Mexinox's ministerial error comments and petitioners' rebuttal comments, we have determined, in accordance with section 751(h) of the Act and 19 CFR 351.224(e), that we made ministerial errors with respect to our calculation for cost of goods sold and our quarterly costs indices, as well as certain aspects of Mexinox's indirect selling expenses incurred in the United States, and Mexinox's G&A ratio calculation.¹ See Mexinox's Ministerial Letter; see also Memorandum to the File, “Antidumping Duty Administrative Review of Stainless Steel Sheet and Strip in Coils from Mexico—Amended Final Results Analysis Memorandum for ThyssenKrupp Mexinox S.A. de C.V.,” dated February 14, 2011 (2008-2009 S4 from Mexico Amended Final Results Analysis Memorandum), for a further discussion. Therefore, the Department has corrected both the Comparison Market Program and the U.S. Margin Program and, where appropriate, the relevant Macros Program to reflect the correction of these errors.

¹ With regard to Mexinox's error allegation involving U.S. indirect selling expenses, we note that Mexinox raised four separate issues concerning our calculation. Three of these we are correcting as ministerial errors. However, the fourth issue, pertaining to offsetting Mexinox's indirect selling expenses for service revenue received from its U.S. affiliates, is methodological in nature and the Department's intent to deny Mexinox's requested offset is reflected in the final results. Therefore, we are not adjusting for this allegation (i.e., we are continuing to deny Mexinox's requested offset).

Therefore, in accordance with 19 CFR 351.224(e), we are amending the final results in this antidumping duty administrative review of S4 in coils from Mexico. After correcting for the noted ministerial errors with respect to cost of goods sold, quarterly costs, U.S. indirect selling expenses, and G&A expenses, the amended final weighted-average dumping margin has changed:

Manufacturer/exporter | Final results weighted- average margin percentage | Amended final weighted- average margin percentage
ThyssenKrupp Mexinox S.A. de C.V | 21.14 | 12.13

Assessment Rates

The Department will determine, and U.S. Customs and Border Protection (CBP) shall assess, antidumping duties on all appropriate entries, pursuant to section 751(a)(1) of the Act, and 19 CFR 351.212(b). Where entered values are missing for some sales and reported for others, the Department calculates a per-unit assessment rate on an importer-specific basis. The Department calculated an importer-specific per-unit duty assessment rate by aggregating the total amount of antidumping duties calculated for the examined sales and dividing this amount by the total quantity of those sales. Where the duty assessment rates are above de minimis, we will instruct CBP to assess duties on all entries of subject merchandise by that importer in accordance with the requirements set forth in 19 CFR 351.106(c)(2).

After issuance of the amended final results of this review, for any importer-specific assessment rates calculated in the amended final results that are above de minimis (i.e., at or above 0.50 percent), we will issue appraisement instructions directly to CBP to assess antidumping duties on appropriate entries by applying the per-unit dollar amount against each unit of merchandise on each of that importer's entries during the review period. See 19 CFR 351.212(b)(1). Pursuant to 19 CFR 356.8(a), the Department intends to issue assessment instructions to CBP 41 days after the date of publication of these amended final results of review.

The Department clarified its “automatic assessment” regulation on May 6, 2003. See Antidumping and Countervailing Duty Proceedings: Assessment of Antidumping Duties, 68 FR 23954 (May 6, 2003). This clarification will apply to entries of subject merchandise during the POR produced by Mexinox for which Mexinox did not know the merchandise was destined for the United States. In such instances, we will instruct CBP to liquidate unreviewed entries at the 30.69 percent all others rate if there is no company-specific rate for an intermediary involved in the transaction.

Cash Deposit Requirements

The following deposit requirements continue to be effective on any entries made on or after February 14, 2011, the date of publication of these amended final results, for all shipments of subject merchandise entered, or withdrawn from warehouse, for consumption as provided by section 751(a)(2)(C) of the Act: (1) For Mexinox, which has a separate rate, the cash deposit rate will be the company-specific rate shown above; (2) for previously reviewed or investigated companies not listed above that have a separate rate, the cash deposit rate will continue to be the company-specific rate published for the most recent period; (3) the cash deposit rate for all other Mexican exporters will be 30.69 percent, the all others rate from the less-than-fair-value investigation; and (4) the cash deposit rate for all non-Mexican exporters will be the rate applicable to the Mexican exporter that supplied that exporter. These cash deposit requirements continue to remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751 and 777(i) of the Act.

Dated: February 14, 2011.
Ronald K. Lorentzen,
Deputy Assistant Secretary for Import Administration.

[FR Doc. 2011-3750 Filed 2-17-11; 8:45 am]

BILLING CODE 3510-DS-P